DEPARTMENT OF AGRICULTURE

Rural Utilities Service

Georgia Transmission Corporation; Notice of Intent To Hold a Public Scoping Meeting and Prepare an Environmental Assessment

AGENCY: Rural Utilities Service, USDA.

ACTION: Notice of intent to hold a public scoping meeting and prepare an Environmental Assessment (EA).

SUMMARY: Rural Utilities Service (RUS), an agency which administers the U.S. Department of Agriculture's Rural Development Utilities Programs. RUS intends to hold a public scoping meeting and prepare an Environmental Assessment (EA) in connection with possible impacts related to a project proposed by Georgia Transmission Corporation (GTC), with headquarters in Tucker, Georgia.

The proposal consists of the construction of approximately 7 miles of 230 kilovolt (kV) transmission line from the proposed East Walton 500/230 kV Substation to the proposed Bethabara Substation. The 230 kilovolt transmission line proposal would be located in Walton and Oconee Counties, Georgia. The proposed East Walton 500/230 kV Substation is located in Walton County and the proposed Bethabara Substation in Oconee County. This proposal is a connected action to the East Walton-Rockville 500 kV Transmission Line, the East Walton-Jack's 230 kV Transmission Line that was presented at the scoping meetings held on Monday, April 17, 2006, at Carver Middle School in Monroe, Georgia and Tuesday, April 18, 2006, at the Madison Morgan Cultural Center in Madison, Georgia. GTC is requesting RUS provide financing for the proposal.

DATES: RUS will conduct one scoping meeting in an open house format, seeking the input of the public and other interested parties. The meeting will be held from 5 p.m. until 7 p.m., August 22, 2006, in Fellowship Hall of the Bethabara Baptist Church, 4651 Monroe Highway (US 78), Statham, Georgia 30666.

An Electric Alternative Evaluation and Macro Corridor Study Report, prepared by Georgia Transmission Corporation, will be presented at the public scoping meeting. The Report will be available for public review at RUS' address provided in this notice, at RUS' Web site: http://www.usda.gov/rus/water/ees/ea.htm, at Georgia Transmission Corporation, 2100 East Exchange Place, Tucker, Georgia 30084 and at the following locations:

Walton County Library, 217 West Spring Street, Monroe, Georgia 30655; 770 267-4630.

Oconee County Library, 1080 Experiment Station Road, Watkinsville, Georgia 30677; 706 769-3950.

FOR FURTHER INFORMATION CONTACT: Stephanie Strength, Environmental Protection Specialist, USDA Rural Development, Utilities Programs, Engineering and Environmental Staff, 1400 Independence Avenue, SW., Stop 1571, Washington, DC 20250-1571, telephone (202) 720-0468. Mrs. Strength's E-mail address is stephanie.strength@wdc.usda.gov.

SUPPLEMENTARY INFORMATION: Georgia Transmission Corporation proposes to construct a 230 kilovolt transmission line from the proposed East Walton 500/230 kV Substation to the proposed Bethabara Substation. It would require a right-of-way of 100 feet. Guyed and unguyed concrete or steel poles ranging in height from 80- to 120-feet would support the East Walton-Bethabara 230 kV conductors. It is anticipated that the transmission line would be in service in 2011.

Government agencies, private organizations, and the public are invited to participate in the planning and analysis of the proposal. Representatives from RUS and Georgia Transmission Corporation will be available at the scoping meeting to discuss RUS' environmental review process, describe the project, the purpose and need for the proposal, macro corridors under consideration, and to discuss the scope of environmental issues to be considered, answer questions, and accept comments. Comments regarding the proposal may be submitted (orally or in writing) at the public scoping meeting or in writing for receipt no later than September 22, 2006, to RUS at the address provided in this notice.

Georgia Transmission Corporation will prepare an environmental analysis to be submitted to RUS for review from information provided in the alternative evaluation and site selection study and input that may be provided by government agencies, private organizations and the public. RUS will use the environmental analysis to determine the significance of the impacts of the proposal and may adopt it as its Environmental Assessment for the proposal. RUS' Environmental Assessment will be available for review and comment for 30 days.

Should RUS determine, based on the Environmental Assessment that the impacts of the construction and operation of the transmission line would not have a significant environmental impact, it will prepare a finding of no significant impact. Public notification of a finding of no significant impact will be published in the Federal Register and in newspapers with a circulation in the project area.

Any final action by RUS related to the proposal will be subject to, and contingent upon, compliance with environmental review requirements as prescribed by RUS' environmental policies and procedures.

Dated: August 7, 2006.
Mark S. Plank,
Director, Engineering and Environmental Staff, USDA/Rural Development/Utilities Programs.

[FR Doc. E6-13411 Filed 8-15-06; 8:45 am]

BILLING CODE 3410-15-P